DEPARTMENT OF AGRICULTURE

Foreign Agricultural Service

Trade Adjustment Assistance for Farmers

AGENCY: Foreign Agricultural Service, USDA.

ACTION: Notice.

The Administrator for the Foreign Agricultural Service (FAS) has denied a petition (No. 2011014) for trade adjustment assistance for dried prunes filed under the fiscal year (FY) 2011 program by the Prune Bargaining Association. The petition was accepted for review by USDA on August 11, 2010.

SUPPLEMENTARY INFORMATION: To qualify under the program, Subtitle C of Title I of the Trade Act of 2002 (Pub. L. 107-210) states that petitions must demonstrate, using data for the most recent, full marketing year or full official marketing season, a greater than 15-percent decline in at least one of the following factors: National average price, quantity of production, value of production, or cash receipts.

According to the statute, it is also necessary for the petition to demonstrate that an increase in imports of like or directly competitive articles, during the same marketing period, contributed importantly to the decrease in one of the above factors for the agricultural commodity.

All petitions were analyzed by USDA's Economic Research Service and reviewed by the Trade Adjustment Assistance for Farmers Program Review Committee, comprised of representatives from USDA's Office of the Chief Economist, Farm Service Agency, Agricultural Marketing Service, and FAS. After the review, the Administrator determined that the petition demonstrated the `greater than 15-percent decline' criterion, because it showed a 17.1-percent decline in the average annual price for 2009/2010, when compared to the previous 3-year period. Additionally, the import data provided for the same time period showed a 54.2-percent increase, meeting the `increase in imports' criterion.

However, while the petition was able to demonstrate that California dried prunes met the `greater than 15-percent decline' criterion and the `increase in imports' criterion, the import data, along with historical import trends showed no inverse correlation between prices and the quantity of imported dried prunes and prune juice, a necessary requirement under the program.

As a result, it was determined that imports were not an important factor in determining the average annual price of California dried prunes in 2009/2010. Instead, ERS found that changes in domestic prune production, inventories, exports, and domestic consumption were the factors affecting dried prune grower prices in 2009/2010.

Because the petition was unable to demonstrate that the decline in average annual price was importantly caused by an increase in imports, the Administrator was not able to certify the petition, making dried prune producers in California ineligible for trade adjustment assistance in FY 2011.

FOR FURTHER INFORMATION, CONTACT: Trade Adjustment Assistance for Farmers Program Staff, Office of Trade Programs, FAS, USDA; or by phone at (202) 720-0638, or (202) 690-0633; or by e-mail at: tradeadjustment@fas.usda.gov; or visit the TAA for Farmers' Web site at: http://www.fas.usda.gov/itp/taa.

Dated: September 20, 2010.
John D. Brewer,
Administrator, Foreign Agricultural Service.

[FR Doc. 2010-24318 Filed 9-27-10; 8:45 am]

BILLING CODE 3410-10-P